DEPARTMENT OF TRANSPORTATION

Federal Highway Administration

Environmental Impact Statement; Horry and Georgetown Counties, SC

AGENCY: Federal Highway Administration (FHWA), DOT.

ACTION: Notice of Intent.

SUMMARY: The FHWA is issuing this notice to advise the public that an environmental impact statement will be prepared for a proposed hurricane evacuation route project in Horry and Georgetown Counties, South Carolina.

FOR FURTHER INFORMATION CONTACT: Mr. Patrick Tyndall, Environmental Program Manager, Federal Highway Administration, Strom Thurmond Federal Building, 1835 Assembly Street, Suite 1270, Columbia, SC 29201-2483, Telephone: 803-765-5411.

SUPPLEMENTARY INFORMATION: The FHWA in cooperation with the South Carolina Department of Transportation (SCDOT) will prepare an environmental impact statement (EIS) on a proposal to establish a hurricane evacuation route for the southeastern portion of Horry County and the northeastern portion of Georgetown County in South Carolina. This project has been locally named the Southern Evacuation Lifeline. Horry County and Georgetown County Councils have appointed a Task Force of local representatives to guide the development of this project.

A timely and efficient means of hurricane evacuation is needed for the southern portion the South Carolina Grand Strand Area also known as the South Strand. This proposed action would establish a hurricane evacuation route between U.S. Route (US) 17 (in the vicinity of Garden City, SC) and U.S. 501 (in the vicinity of Conway, SC). The study area's coastal boundary will be U.S. 17 and the inland boundary would extend to near the intersection of U.S. 501 and S.C. Route (SC) 22.

The FHWA and SCDOT are seeking input as a part of the scoping process to assist in identifying issues relative to this project. Letters describing the proposed action and soliciting comments will be sent to the appropriate Federal, State and local agencies, and to private organizations and citizens who have previously expressed or are known to have interest in this action. Scoping meetings are currently planned for April and May 2006. A series of public information meetings will be held in the proposed study area this calendar year. In addition, a public hearing will be held after the approval of the Draft Environmental Impact Statement (DEIS). Public notice will be given indicating the time and place of the meetings and the hearing. The DEIS will be made available for public and agency review and comment prior to the public hearing.

To ensure the full range of issues related to this proposed action are addressed, all significant issues will be identified and evaluated. Comments and suggestions are invited from all interested parties in the development of these issues. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: March 13, 2006.
Robert D. Thomas,
Assistant Division Administrator, Columbia, SC.

[FR Doc. E6-3915 Filed 3-16-06; 8:45 am]

BILLING CODE 4910-22-P